DEPARTMENT OF HEALTH AND HUMAN SERVICES

Centers for Disease Control and Prevention

[Program Announcement 03160]

Cooperative Agreement for Plague Clinical Trials with Prospect International in Madagascar; Notice of Intent To Fund Single Eligibility Award

A. Purpose

The Centers for Disease Control and Prevention (CDC) announces the intent to fund fiscal year (FY) 2003 funds for a cooperative agreement program to evaluate the effectiveness and safety of Gentamicin and other antibiotics for the treatment of human plague, to evaluate newly available rapid dipstick tests for the diagnosis of human plague, and to develop a long-term collaboration between the CDC and Madagascar in the area of plague research and prevention. The Catalog of Federal Domestic Assistance number for this program is 93.283.

B. Eligible Applicant

Assistance will be provided only to Prospect International (PI) in Antananarivo, Madagascar. No other applications are solicited.

PI is the most appropriate and qualified non-governmental organization in Madagascar to conduct the activities specified under this cooperative agreement for the following reasons:

• PI has established collaborations with Madagascar health authorities on health infrastructure such as the Integrated Disease Surveillance and Response (IDSR) strategy.

• PI has the requisite expertise for management and coordination of the logistics and finances of complicated health projects.

• PI has the proven ability to successfully collaborate with CDC on health research and health infrastructure projects.

• PI has established collaborations with the Madagascar Ministry of Health as well as other high-level government offices.

C. Funding

Approximately $145,000 is available in FY 2003 to fund this award. It is expected that the award will begin on or before September 15, 2003, and will be made for a 12-month budget period within a project period of up to five years. Funding estimate may change.

D. Where To Obtain Additional Information

For general comments or questions about this announcement, contact: Technical Information Management, CDC Procurement and Grants Office, 2920 Brandywine Road, Atlanta, GA 30341-4146, Telephone: 770-488-2700.

For technical questions about this program, contact: Jacob Kool, MD, Ph.D., Division of Vector-Borne Infectious Diseases, National Center for Infectious Diseases, Centers for Disease Control and Prevention, Rampart Road (Foothills Campus), Fort Collins, CO 80521, Telephone: 970-266-3540, E-mail: jkool@cdc.gov.

Dated: August 4, 2003.
Edward Schultz,
Acting Director, Procurement and Grants Office, Centers for Disease Control and Prevention.

[FR Doc. 03-20228 Filed 8-7-03; 8:45 am]

BILLING CODE 4163-18-U